DEPARTMENT OF ENERGY

[OE Docket No. EA-262-B]

Application To Export Electric Energy; TransCanada Power Marketing Ltd.

AGENCY: Office of Electricity Delivery and Energy Reliability, DOE.

ACTION: Notice of Application.

SUMMARY: TransCanada Power Marketing Ltd. (TCPM) has applied to renew its authority to transmit electric energy from the United States to Canada pursuant to section 202(e) of the Federal Power Act.

DATES: Comments, protests or requests to intervene must be submitted on or before May 12, 2006.

ADDRESSES: Comments, protests or requests to intervene should be addressed as follows: Office of Electricity Delivery and Energy Reliability, Mail Code: OE-20, U.S. Department of Energy, 1000 Independence Avenue, SW., Washington, DC 20585-0350 (Fax 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On June 4, 2002, the Department of Energy (DOE) issued Order No. EA-262 authorizing TCPM to transmit electric energy from the United States to Canada as a power marketer. On June 4, 2004, in Order No. EA-262-A, DOE renewed the TCPM authorization to export electric energy to Canada for a two-year term that expires on June 4, 2006.

On February 17, 2006, TCPM filed an application with DOE for renewal of the export authority contained in Order No. EA-262-A for an additional five-year term. TCPM proposes to export electric energy to Canada and to arrange for the delivery of those exports over the international transmission facilities presently owned by Basin Electric Power Cooperative, Bonneville Power Administration, Citizens Utilities Company, Eastern Maine Electric Cooperative, International Transmission Company, Joint Owners of Highgate Project, Long Sault, Inc., Maine Electric Power Company, Maine Public Service Company, Minnesota Power, Inc., Minnkota Power Cooperative, Inc., New York Power Authority, Niagara Mohawk Power Corp., Northern States Power Company, and Vermont Electric Transmission Company.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the TCPM application to export electric energy to Canada should be clearly marked with Docket EA-262-B. Additional copies are to be filed directly with Angela Avery, Associate General Counsel, TransCanada Power Marketing Ltd., 450 First Street, SW., Calgary, Alberta T2P5H1, Canada.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's home page at http://www.fe.doe.gov/programs/electricityregulation/. Upon reaching the home page, scroll down and select “Pending Proceedings.”

Issued in Washington, DC, on April 6, 2006.
Anthony J. Como,
Director, Permitting and Siting, Office of Electricity Delivery and Energy Reliability.

[FR Doc. E6-5381 Filed 4-11-06; 8:45 am]

BILLING CODE 6450-01-P